POSTAL SERVICE

Product Change—Express Mail & Priority Mail Contract 1 Negotiated Service Agreements

AGENCY: Postal Service™.

ACTION: Notice.

SUMMARY: Postal Service notice of filing a request with the Postal Regulatory Commission to add Express Mail & Priority Mail Contract 1 to the list of Negotiated Service Agreements in the Mail Classification Schedule's Competitive Products List pursuant to 39 U.S.C. 3642 and 3632(b)(3).

DATES: December 24, 2008.

FOR FURTHER INFORMATION CONTACT: Scott Reiter, 202-268-2999.

SUPPLEMENTARY INFORMATION: The United States Postal Service® hereby gives notice that on October 24, 2008, it filed with the Postal Regulatory Commission a Request of the United States Postal Service to Add Express Mail & Priority Mail Contract 1 to Competitive Product List and Notice of Establishment of Rates and Class Not Of General Applicability. Documents are available at http://www.prc.gov, Docket Nos. MC2009-6, CP2009-7.

Neva R. Watson,
Attorney, Legislative.

[FR Doc. E8-30573 Filed 12-23-08; 8:45 am]

BILLING CODE 7710-12-P